DEPARTMENT OF TRANSPORTATION

Federal Aviation Administration

Notice of Opportunity for Public Comment on Release of Federally Obligated Property at Hartsfield-Jackson Atlanta International Airport, College Park, GA

AGENCY: Federal Aviation Administration (FAA), DOT.

ACTION: Notice.

SUMMARY: Under the provisions of Title 49, U.S.C. Section 47153(c), notice is being given that the FAA is considering a request from the City of Atlanta, Department of Aviation to waive the requirement that a 4.5-acre parcel of federally obligated property, located at the Hartsfield-Jackson Atlanta International Airport; be used for aeronautical purposes.

DATES: Comments must be received on or before September 16, 2011.

ADDRESSES: Comments on this notice may be mailed or delivered in triplicate to the FAA at the following address: Atlanta Airports District Office, Attn: Aimee A. McCormick, Program Manager, 1701 Columbia Ave., Campus Building, Suite 2-260, Atlanta, GA 30337-2747.

In addition, one copy of any comments submitted to the FAA must be mailed or delivered to Louis Miller, Aviation General Manager at Hartsfield-Jackson Atlanta International Airport to the following address: City of Atlanta, Department of Aviation, P.O. Box 20509, College Park, GA 30320-2509.

FOR FURTHER INFORMATION CONTACT: Aimee McCormick, Program Manager, Atlanta Airports District Office, 1701 Columbia Ave., Campus Building, Suite 2-260, Atlanta, GA 30337-2747, (404) 305-7143. The application may be reviewed in person at this same location.

SUPPLEMENTARY INFORMATION: The FAA is reviewing a request by the City of Atlanta, Department of Aviation to release 4.50 acres of federally obligated property at Hartsfield-Jackson Atlanta International Airport. The property will be released from federal . obligation so that it may be purchased and developed for compatible land uses. The net proceeds from the sale of this property will be used for airport purposes. The proposed use of this property is compatible with airport operations.

Any person may inspect the request in person at the FAA office listed above under FOR FURTHER INFORMATION CONTACT. In addition, any person may, upon request, inspect the request, notice and other documents germane to the request in person at the City of Atlanta, Department of Aviation:

Issued in Atlanta, Georgia, on August 10, 2011.
Scott L. Seritt,
Manager, Atlanta Airports, District Office Southern Region.

[FR Doc. 2011-20749 Filed 8-16-11; 8:45 am]

BILLING CODE 4910-13-P